DEPARTMENT OF THE INTERIOR

Bureau Of Land Management

[LLOR936000.L14400000.ET0000.15XL1109AF; HAG 15-0099; OR-67721]

Public Land Order No. 7836; Withdrawal of National Forest System Lands for the White King/Lucky Lass Mines Remediation Areas; Oregon

AGENCY: Bureau of Land Management, Interior.

ACTION: Public Land Order.

SUMMARY: Subject to valid existing rights, this order withdraws 240.59 acres of National Forest System lands in the Fremont National Forest from location and entry under the United States mining laws, but not from leasing under the mineral leasing laws, for a period of 20 years for the United States Forest Service to protect the integrity and functionality of the mine reclamation work on the White King/Lucky Lass Mines. The withdrawal will protect the $4.9 million Federal investment for reclamation work that has been completed to contour, cap, and restore vegetation at the mine sites located in the Fremont National Forest in Lake County, Oregon.

DATES: Effective Date: June 7, 2015.

FOR FURTHER INFORMATION CONTACT: Robin Ligons, Bureau of Land Management Oregon/Washington State Office, 503-808-6169, or Candice Polisky, U.S. Forest Service, Region 6, Pacific Northwest Regional Office, 503-808-2479. Persons who use a telecommunications device for the deaf (TDD) may call the Federal Information Relay Service (FIRS) at 1-800-877-8339 to reach either of the contacts stated above. The FIRS is available 24 hours a day, 7 days a week, to leave a message or question with either of the above individuals. You will receive a reply during normal business hours.

SUPPLEMENTARY INFORMATION: This order will withdraw National Forest System lands that were previously withdrawn by two expired withdrawals created by Public Land Order Nos. 6990 (58 FR 42245 as corrected in 58 FR 44536) and 7519 (67 FR 13649).

Order

By virtue of the authority vested in the Secretary of the Interior by Section 204 of the Federal Land Policy and Management Act of 1976, 43 U.S.C. 1714, it is ordered as follows:

1. Subject to valid existing rights, the following described National Forest System lands are hereby withdrawn from location and entry under the United States mining laws, but not from leasing under the mineral leasing laws, for a period of 20 years to protect the integrity and functionality of the mine reclamation work at the White King/Lucky Lass Mines reclamation project:

Willamette Meridian

Fremont National Forest

T. 37 S., R. 18 E.,

sec. 25, NW¼NE¼;

T. 37 S., R. 19 E.,

sec. 30, lot 1, and NW¼NE¼, E½NW¼, and NW¼SE¼.

The areas described aggregate 240.59 acres in Lake County.

2. The withdrawal made by this order does not alter the applicability of those public land laws governing the use of the lands other than under the mining laws.

3. This withdrawal will expire 20 years from the effective date of this order, unless, as a result of a review conducted before the expiration date pursuant to Section 204(f) of the Federal Land Policy and Management Act of 1976, 43 U.S.C. 1714(f), the Secretary of the Interior determines that the withdrawal shall be extended.

Dated: June 7, 2015.
Janice M. Schneider,
Assistant Secretary—Land and Minerals Management.

[FR Doc. 2015-15007 Filed 6-17-15; 8:45 am]

BILLING CODE 3411-15-P